DEPARTMENT OF THE INTERIOR

Bureau of Land Management

[BLM_AZ_FRN_MO4500178666]

Notice of Availability of the Draft Environmental Impact Statement for the Jove Solar Project, La Paz County, AZ

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Draft Environmental Impact Statement (EIS) for the Jove Solar Project, La Paz County, Arizona.

DATES: To afford the BLM the opportunity to consider comments in the Final EIS, please ensure that the BLM receives your comments within 45 days following the date the Environmental Protection Agency (EPA) publishes its Notice of Availability (NOA) of the Draft EIS in the Federal Register. The EPA usually publishes its NOAs on Fridays.

ADDRESSES: The Draft EIS is available for review on the BLM project website at https://eplanning.blm.gov/eplanning-ui/project/2017881/510.

Written comments related to the Jove Solar Project may be submitted by any of the following methods:

• Website: https://eplanning.blm.gov/eplanning-ui/project/2017881/510.

• Email: blm_az_crd_solar@blm.gov.

• Mail: BLM Yuma Field Office, Attention: Jove Solar Project, 7341 E 30th Street, Yuma, AZ 85365.

Documents pertinent to this proposal may be examined online at https://eplanning.blm.gov/eplanning-ui/project/2017881/510 and at the Yuma Field Office.

FOR FURTHER INFORMATION CONTACT: Derek Eysenbach, Project Manager, at deysenbach@blm.gov, the mailing address above, or by phone at (602) 417-9505. Individuals in the United States who are deaf, deafblind, hard of hearing, or have a speech disability may dial 711 (TTY, TDD, or TeleBraille) to access telecommunications relay services for contacting Mr. Eysenbach. Individuals outside the United States should use the relay services offered within their country to make international calls to the point-of-contact in the United States.

SUPPLEMENTARY INFORMATION:

Purpose and Need for the Proposed Action

The BLM's purpose for the action is to respond to the applicant's application for a right-of-way (ROW) grant to construct, own, operate, maintain, and decommission a utility-scale solar photovoltaic (PV) energy generating facility on public lands administered by the BLM Yuma Field Office (YFO). The need for the BLM action is established by the BLM's responsibility under FLPMA and the Energy Policy Act of 2005 to respond to applications that promote grid reliability and renewable energy development and to designate corridors for electricity transmission and distribution facilities.

Proposed Action and Alternatives

Jove Solar, LLC (Applicant) (a wholly owned subsidiary of 174 Power Global, LLC, which is a wholly owned subsidiary of Hanwha Energy USA Holdings Corp.) is seeking a 30-year ROW to use 3,495 acres administered by the BLM alongside 38 acres administered by La Paz County to construct, operate and maintain, and decommission a utility-scale solar photovoltaic facility, called the Jove Solar Project (the Project). The Project would be located in southeastern La Paz County, Arizona, south of Interstate-10 midway between Phoenix and the California border, approximately 22 miles east-southeast of the community of Brenda and the I-10/Highway 60 junction, and 30 miles west of the community of Tonopah. The Project's proposed action would consist of up to 1.2 million solar PV modules and associated infrastructure, including new and improved roads, powerlines for collection and transmission of electricity, operation and maintenance facilities, and a battery energy storage system. The Project would interconnect at the Cielo Azul Substation, to be built adjacent to the Ten West Link 500-kilovolt (kV) transmission line, and have a generation capacity of 600 megawatts or more. The initial application in 2019 was received under the company name Taurus Solar; the project name was revised to Jove Solar in an amended application August 9, 2022. The Project is proposed within a solar variance area identified in the BLM Western Solar Plan (2012), and the BLM has processed the application consistent with the variance process established in that Plan.

The BLM has prepared a Draft EIS with input from cooperating agencies and public comments collected during scoping to address the direct, indirect, and cumulative impacts of the Project. The Draft EIS analyzes three alternatives:

• No Action, in which the BLM would not authorize construction, operation and maintenance, and decommissioning of the Project;

• Proposed Action, in which the BLM would authorize construction, operation and maintenance, and decommissioning of the Project consistent with the detailed Project description below; and

• Wash Avoidance Alternative, which carries over the design of the Proposed Action, but avoids construction in a desert wash within the Project Area and near known sensitive sites, using specified setbacks to enhance resource conservation opportunities.

The BLM has identified the Wash Avoidance Alternative as the agency's preferred alternative. Information acquired during the Draft EIS public comment period will inform the BLM's ultimate decision to select any of the three alternatives.

Under the Proposed Action, the BLM would grant a ROW for the Project, which would have a net generating capacity of up to 600 megawatts alternating current (MWac) and span 3,495 acres administered by BLM and 38 acres of La Paz County land. The Project would include solar PV modules, direct current cabling and combining switchgear, inverters, voltage collection systems, transformers, monitoring and controls systems, operations and maintenance facilities, above-ground electrical connection lines, and potentially a battery energy storage system and substation. The Project would use a substation on an adjacent approved solar facility and connect into the regional transmission system via the Cielo Azul 500 kV switching station and Ten West Link 500 kV transmission line (construction ongoing). Overhead 69 kV connection lines would extend approximately 2 miles in a proposed utility easement on La Paz County land to the Cielo Azul switching station. The Applicant has incorporated numerous design features into the Proposed Action to avoid or minimize adverse environmental effects during construction, operation, and decommissioning. These plans and procedures are provided as appendices to the Proposed Plan of Development and the Draft EIS. The Wash Avoidance Alternative would employ the same technology and design as the Proposed Action but avoid construction impacts to a desert wash to maintain wildlife habitat connectivity and preserve natural features. All design features for the Proposed Action would apply to the Wash Avoidance Alternative.

Important Issues Identified During Scoping

During scoping, several issues were raised including for the following resource areas: air quality/greenhouse gas/climate change; biological resources; environmental justice/socioeconomics; fuels and fire management; livestock grazing; Native American, religious, and traditional cultural resources; recreation; soil resources; vegetation; visual resources; waste/hazardous waste; and water resources. The BLM reviewed all scoping comments and incorporated comments into the Draft EIS where applicable.

Lead and Cooperating Agencies

The BLM's Yuma Field Office is the lead Federal agency for the Draft EIS. The Arizona Department of Transportation, Arizona Game and Fish Department, La Paz County, Fort Yuma-Quechan Tribe, U.S. Army Corps of Engineers, U.S. Environmental Protection Agency, and U.S. Fish and Wildlife Service have also requested to participate in the environmental analysis as cooperating agencies. The BLM has a signed memorandum of understanding with each cooperating agency to identify its roles and responsibilities and those of the BLM in the process.

Public Involvement Process

A virtual public meeting will be held 2 to 3 weeks after publication of this notice; the meeting date will be announced on the Project ePlanning website at least 15 days prior to the meeting. The public meeting will include a presentation and opportunity to speak with the project team. The date(s) and location(s) of any additional meetings will be announced in advance through the Project ePlanning website (see ADDRESSES).

The BLM encourages the public to review the Draft EIS and provide comments on the adequacy of the alternatives, analysis of effects, and any new information that would help the BLM disclose potential impacts of the Project in the Final EIS.

The BLM will continue to consult with Indian Tribal Nations on a government-to-government basis in accordance with Executive Order 13175, BLM MS 1780, and other Departmental policies. Tribal concerns, including potential impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Raymond Suazo,
State Director.

[FR Doc. 2024-07868 Filed 4-18-24; 8:45 am]

BILLING CODE 4331-12-P